DEPARTMENT OF COMMERCE

National Oceanic and Atmospheric Administration

50 CFR Part 679

[Docket No. 110314196-1725-02]

RIN 0648-BA97

Fisheries of the Exclusive Economic Zone Off Alaska; Groundfish of the Gulf of Alaska; Amendment 88

Correction

§ 679.81 [Corrected]

In rule document 2011-32873 appearing on pages 81248-81293 in the issue of December 27, 2011, make the following correction:

On pages 81283-81283, the table at § 679.81(i)(3) is reprinted in its entirety:

Requirement | Catcher vessel sector | Catcher/processor sector
(i) Who may join a rockfish cooperative? | Only persons who hold rockfish QS may join a rockfish cooperative.
(ii) What is the minimum number of LLP licenses that must be assigned to form a rockfish cooperative? | No minimum requirement.
(iii) Is an association with a rockfish processor required? | Yes, a rockfish QS holder may only be a member of a rockfish cooperative formed in association with a rockfish processor. The rockfish cooperative may not receive rockfish CQ unless a shoreside processor eligible to receive rockfish CQ has indicated that it may be willing to receive rockfish CQ from that cooperative in the application for CQ, as described under § 679.81, that is submitted by that cooperative | No.
(iv) Is a rockfish cooperative member required to deliver catch to the rockfish processor with whom the rockfish cooperative is associated? | No | N/A.
(v) Is there a minimum amount of rockfish QS that must be assigned to a rockfish cooperative for it to be allowed to form? | No | No.
(vi) What is allocated to the rockfish cooperative? | CQ for rockfish primary species, rockfish secondary species, and rockfish halibut PSC, based on the rockfish QS assigned to all of the LLP licenses that are assigned to the cooperative.
(vii) Is this CQ an exclusive harvest privilege? | Yes, the members of the rockfish cooperative have an exclusive harvest privilege to collectively catch this CQ, or a cooperative may transfer all or a portion of this CQ to another rockfish cooperative.
(viii) Is there a season during which designated vessels may catch CQ? | Yes, any vessel designated to catch CQ for a rockfish cooperative is limited to catching CQ during the season beginning on 1200 hours, A.l.t., on May 1 through 1200 hours, A.l.t., on November 15.
(ix) Can any vessel catch a rockfish cooperative's CQ? | No, only vessels that are named on the application for CQ for that rockfish cooperative may catch the CQ assigned to that rockfish cooperative. A vessel may be assigned to only one rockfish cooperative in a calendar year.
(x) Can a member of a rockfish cooperative transfer CQ individually to another rockfish cooperative without the approval of the other members of the rockfish cooperative? | No, only the rockfish cooperative's designated representative, and not individual members, may transfer its CQ to another rockfish cooperative. Any such transfer must be approved by NMFS as established under paragraph (i)(4)(ii) of this section.
(xi) Can a rockfish cooperative in the catcher/processor sector transfer its sideboard limit? | N/A | No, a sideboard limit assigned to a rockfish cooperative in the catcher/processor sector is a limit applicable to a specific rockfish cooperative, and may not be transferred between rockfish cooperatives.
(xii) Is there a hired master requirement? | No, there is no hired master requirement.
(xiii) Can an LLP license be assigned to more than one rockfish cooperative in a calendar year? | No, an LLP license may only be assigned to one rockfish cooperative in a calendar year. A person holding multiple LLP licenses with associated rockfish QS may assign different LLP licenses to different rockfish cooperatives subject to any other restrictions that may apply.
(xiv) Can a rockfish processor be associated with more than one rockfish cooperative? | Yes | N/A.
(xv) Can an LLP license be assigned to a rockfish cooperative and opt-out of participating in a rockfish cooperative? | N/A | No, each calendar year an LLP license must either be assigned to a rockfish cooperative or opt-out.
(xvi) Which members may harvest the rockfish cooperative's CQ? | That is determined by the rockfish cooperative contract signed by its members. Any violations of this contract by one cooperative member may be subject to civil claims by other members of the rockfish cooperative.
(xvii) Does a rockfish cooperative need a contract? | Yes, a rockfish cooperative must have a membership agreement or contract that specifies how the rockfish cooperative intends to harvest its CQ. A copy of this agreement or contract must be submitted to NMFS with the cooperative's application for CQ.
(xviii) What happens if the rockfish cooperative exceeds its CQ amount? | A rockfish cooperative is not authorized to catch fish in excess of its CQ and must not exceed its CQ amount at the end of the calendar year. Exceeding a CQ is a violation of the Rockfish Program regulations. Each member of the rockfish cooperative is jointly and severally liable for any violations of the Rockfish Program regulations while fishing under authority of a CQ permit. This liability extends to any persons who are hired to catch or receive CQ assigned to a rockfish cooperative. Each member of a rockfish cooperative is responsible for ensuring that all members of the rockfish cooperative comply with all regulations applicable to fishing under the Rockfish Program.
(xix) Is there a limit on how much CQ a rockfish cooperative may hold or use? | Yes, see § 679.82(a) for the provisions that apply.
(xx) Is there a limit on how much CQ a vessel may harvest? | Yes, see § 679.82(a) for the provisions that apply.
(xxi) Is there a requirement that a rockfish cooperative pay rockfish cost recovery fees? | Yes, see § 679.85 for the provisions that apply.
(xxii) When does catch count against my CQ permit? | Any vessel fishing checked-in (and therefore fishing under the authority of a CQ permit must count any catch of rockfish primary species, rockfish secondary species, or rockfish halibut PSC against that rockfish cooperative's CQ from May 1 until November 15, or until the effective date of a rockfish cooperative termination of fishing declaration that has been approved by NMFS).
(xxiii) If my vessel is checked-out and fishing in a directed flatfish fishery in the Central GOA and I catch groundfish and halibut PSC, does that count against the rockfish cooperative's CQ? | No. If you are fishing in a directed flatfish fishery and checked-out of the Rockfish Program fisheries, you are not fishing under the authority of a CQ permit. Groundfish harvests would not be debited against the rockfish cooperative's CQ permit. In this case, any catch of halibut would be attributed to the halibut PSC limit for that directed target fishery and gear type and any applicable sideboard limit.
(xxiv) Can my rockfish cooperative negotiate prices for me? | The rockfish cooperatives formed under the Rockfish Program are intended to conduct and coordinate harvest activities for their members. Rockfish cooperatives formed under the Rockfish Program are subject to existing antitrust laws. Collective price negotiation by a rockfish cooperative must be conducted in accordance with existing antitrust laws.
(xxv) Are there any special reporting requirements? | Yes, each year a rockfish cooperative must submit an annual rockfish cooperative report to NMFS by December 15 of that year. See § 679.5(r)(6) for the reporting requirements.
(xxvi) What is required in the annual rockfish cooperative report? | The annual rockfish cooperative report must include at a minimum:
| (A) The rockfish cooperative's CQ, sideboard limit (if applicable), and any rockfish sideboard fishery harvests made by the vessels in the rockfish cooperative on a vessel-by-vessel basis;
| (B) The rockfish cooperative's actual retained and discarded catch of CQ, and sideboard limit on an area-by-area and vessel-by-vessel basis;
| (C) A description of the method used by the rockfish cooperative to monitor fisheries in which rockfish cooperative vessels participated; and
| (D) A description of any civil actions taken by the rockfish cooperative in response to any members that exceeded their allowed catch.

[FR Doc. C1-2011-32873 Filed 1-17-12; 8:45 am]

BILLING CODE 1505-01-D